DEPARTMENT OF COMMERCE

National Oceanic and Atmospheric Administration

[RTID 0648-XB787]

North Pacific Albacore United States Stakeholder Meeting; Meeting Announcement

AGENCY: National Marine Fisheries Service (NMFS), National Oceanic and Atmospheric Administration (NOAA), Commerce.

ACTION: Notice of public meeting.

SUMMARY: NMFS announces a U.S. stakeholder meeting open to the public to discuss North Pacific albacore (NPALB) management. This meeting is intended to prepare for potential discussions at the 2022 annual meetings of the Inter-American Tropical Tuna Commission (IATTC) and Western and Central Pacific Fisheries Commission Northern Committee (WCPFC NC) on a harvest strategy for NPALB fisheries. The meeting topics are described under the SUPPLEMENTARY INFORMATION section of this notice.

DATES: The virtual meeting will be held on April 5, 2022, from 9 a.m. to 1 p.m. HST (or until business is concluded). You must complete the registration process by March 29, 2022, if you plan to attend the meeting (see ADDRESSES). Members of the public may submit written comments on meeting topics or materials to Valerie Post at valerie.post@noaa.gov by March 29, 2022, and may also provide oral comments during the virtual meeting.

ADDRESSES: If you plan to attend the meeting, which will be held by webinar, please register at https://forms.gle/eoY4EPsnkdLTyJMP7. Instructions for attending the meeting will be emailed to meeting participants before the meeting occurs.

FOR FURTHER INFORMATION CONTACT: Valerie Post, Pacific Islands Regional Office at valerie.post@noaa.gov, (808) 725-5034.

SUPPLEMENTARY INFORMATION: In 2021, the International Scientific Committee on Tuna and Tuna-like Species in the North Pacific Ocean (ISC) completed a management strategy evaluation (MSE) on NPALB,¹ and the ISC Albacore Working Group hosted a meeting among U.S. and Canadian stakeholders from March 22-25, 2021, to review the results of the MSE. As a follow-up to the ISC meeting in March 2021, NMFS hosted a U.S. virtual meeting on June 1, 2021, for U.S. stakeholders to express their priorities and consider future management of NPALB. This April 5 meeting, is intended to follow up to the June 2021 webinar, as well as to prepare for anticipated discussions at the IATTC and WCPFC NC.

¹ http://isc.fra.go.jp/working_groups/albacore.html.

NPALB U.S. Stakeholder Meeting Topic

This meeting agenda will be distributed to participants in advance of the meeting. The meeting agenda will include a discussion on a potential future harvest strategy for NPALB and may include, but is not limited to, candidate limit and target reference points.

Special Accommodations

Requests for sign language interpretation or other auxiliary aids should be indicated when registering for the meeting (see ADDRESSES) by March 29, 2022.

Authority: 16 U.S.C. 951 et seq., 16 U.S.C. 1801 et seq., and 16 U.S.C. 6901 et seq.

Dated: February 10, 2022.
Ngagne Jafnar Gueye,
Acting Director, Office of Sustainable Fisheries, National Marine Fisheries Service.

[FR Doc. 2022-03434 Filed 2-16-22; 8:45 am]

BILLING CODE 3510-22-P